CONSUMER PRODUCT SAFETY COMMISSION

[CPSC Docket No. 12-1]

Notice of Telephonic Prehearing Conference

AGENCY: U.S. Consumer Product Safety Commission.

ACTION: Notice.

SUMMARY: Notice of telephonic prehearing conference in the matter of Maxfield and Oberton Holdings, LLC, Docket No. 12-1.

DATES: September 25, 2012, at 10 a.m. (CDT).

ADDRESSES: See SUPPLEMENTARY INFORMATION: Telephonic conferencing arrangements.

FOR FURTHER INFORMATION CONTACT: Katy J.L. Duke, Esq., U.S. Coast Guard ALJ Program, 504/671-2213.

SUPPLEMENTARY INFORMATION: Any or all of the following shall be considered during the prehearing conference:

(1) Petitions for leave to intervene;

(2) Motions, including motions for consolidation of proceedings and for certification of class actions;

(3) Identification, simplification and clarification of the issues;

(4) Necessity or desirability of amending the pleadings;

(5) Stipulations and admissions of fact and of the content and authenticity of documents;

(6) Oppositions to notices of depositions;

(7) Motions for protective orders to limit or modify discovery;

(8) Issuance of subpoenas to compel the appearance of witnesses and the production of documents;

(9) Limitation of the number of witnesses, particularly to avoid duplicate expert witnesses;

(10) Matters of which official notice should be taken and matters which may be resolved by reliance upon the laws administered by the Commission or upon the Commission's substantive standards, regulations, and consumer product safety rules;

(11) Disclosure of the names of witnesses and of documents or other physical exhibits which are intended to be introduced into evidence;

(12) Consideration of offers of settlement;

(13) Establishment of a schedule for the exchange of final witness lists, prepared testimony and documents, and for the date, time and place of the hearing, with due regard to the convenience of the parties; and

(14) Such other matters as may aid in the efficient presentation or disposition of the proceedings. Telephonic conferencing arrangements will be made by the court. Mary B. Murphy, Esq., Jennifer Argabright, Esq., Sarah Wang, Esq., Counsel for the U.S. Consumer Product Safety Commission, shall be contacted by a third party conferencing center at 301/504-7809. Eric C. Tew, Esq. and Paul M. Laurenza, Esq., counsel for Respondent Maxfield and Oberton Holdings, LLC (Respondent) shall be contacted by a third party conferencing center at 202/906-8646.

Authority: Consumer Product Safety Act (Sec. 15, 20, 27 (15 U.S.C. 2064, 2069, 2076), the Flammable Fabrics Act (Sec. 5, 15 U.S.C. 1194), the Federal Trade Commission Act (15 U.S.C. 45).

Dated: September 20, 2012.
Todd A. Stevenson,
Secretary.

[FR Doc. 2012-23565 Filed 9-24-12; 8:45 am]

BILLING CODE 6355-01-P